DEPARTMENT OF COMMERCE

International Trade Administration

[A-588-707]

Granular Polytetrafluoroethylene Resin From Japan: Final Results of Antidumping Duty Administrative Review

AGENCY: Import Administration, International Trade Administration, Department of Commerce.

SUMMARY: On May 11, 2006, the Department of Commerce published the preliminary results of the administrative review of the antidumping duty order on granular polytetrafluoroethylene resin from Japan. The review covers one manufacturer/exporter. The period of review is August 1, 2004, through July 31, 2005.

We gave interested parties an opportunity to comment on the preliminary results. Based on our analysis of the comments received, we have made changes in the margin calculations. Therefore, the final results differ from the preliminary results. The final weighted-average dumping margin for the reviewed firm is listed below in the section entitled “Final Results of the Review.”

EFFECTIVE DATE: November 1, 2006.

FOR FURTHER INFORMATION CONTACT: Catherine Cartsos or Richard Rimlinger, AD/CVD Operations, Office 5, Import Administration, International Trade Administration, U.S. Department of Commerce, 14th Street and Constitution Avenue, NW, Washington, DC 20230; telephone: (202) 482-1757 or (202) 482-4477.

SUPPLEMENTARY INFORMATION:

Background

On May 11, 2006, the Department of Commerce (the Department) published the preliminary results of the administrative review of the antidumping duty order on granular polytetrafluoroethylene resin (PTFE) from Japan. See Granular Polytetrafluoroethylene Resin From Japan: Preliminary Results of Antidumping Duty Administrative Review, 71 FR 27459 (May 11, 2006). The period of review is August 1, 2004, through July 31, 2005. The company for which we are conducting the administrative review is Asahi Glass Fluoropolymers, Ltd. (Asahi).

We invited interested parties to comment on the preliminary results. We received comments from Asahi. The petitioner in this case did not comment. Asahi also submitted an untimely request for a hearing which we denied. The Department has conducted this administrative review in accordance with section 751 of the Tariff Act of 1930, as amended (the Act).

Scope of Order

The merchandise covered by the antidumping duty order is PTFE, filled or unfilled. The order excludes PTFE dispersions in water, fine powders, and reprocessed PTFE powder. PTFE is currently classifiable under subheading 3904.61.00 of the Harmonized Tariff Schedule of the United States (HTSUS). This order covers all PTFE, regardless of its tariff classification. Although the HTSUS subheadings are provided for convenience and customs purposes, the written description of the order remains dispositive.

Analysis of the Comments Received

All issues raised in the case brief submitted by Asahi in the context of this administrative review are addressed in the “Issues and Decision Memorandum” (Decision Memo) from Stephen J. Claeys, Deputy Assistant Secretary, to David M. Spooner, Assistant Secretary, dated October 23, 2006, which is hereby adopted by this notice. A list of the issues which the respondent raised and to which we have responded is in the Decision Memo and attached to this notice as an Appendix. The Decision Memo, which is a public document, is on file in the Central Records Unit, main Commerce building, Room B-099, and is accessible on the Web at http://ia.ita.doc.gov/frn/index.html. The paper copy and electronic version of the Decision Memo are identical in content.

Changes from the Preliminary Results

Based on our analysis of the comments we received from Asahi, we find that Asahi's two home-market channels of distribution constitute one level of trade. Our analysis on the level of trade is discussed in detail in the Decision Memo. We made no other changes to our analysis.

Final Results of the Review

As a result of our review, we determine that a margin of 0.00 percent exists for Asahi for the period August 1, 2004, through July 31, 2005.

Assessment Rate

The Department will determine and U.S. Customs and Border Protection (CBP) shall assess antidumping duties on all appropriate entries. We intend to issue appropriate assessment instructions directly to CBP within 15 days of publication of these final results of review. In accordance with 19 CFR 351.212(b)(1), we have calculated an importer-specific assessment rate of 0.00 percent. We will direct CBP to liquidate the appropriate entries at this rate. See 19 CFR 351.212(b)(1).

The Department clarified its “automatic assessment” regulation on May 6, 2003. See Notice of Policy Concerning Assessment of Antidumping Duties, 68 FR 23954 (May 6, 2003) (Assessment-Policy Notice). This clarification will apply to entries of subject merchandise during the period of review produced by Asahi for which Asahi did not know that the merchandise it sold to an intermediary (e.g., a reseller, trading company, or exporter) was destined for the United States. In such instances, we will instruct CBP to liquidate unreviewed entries at the 91.74 percent all-others rate if there is no rate for the intermediary involved in the transaction. See the Assessment-Policy Notice for a full discussion of this clarification.

Cash-Deposit Requirements

The following deposit requirements will be effective upon publication of this notice of final results of the administrative review for all shipments of the subject merchandise entered, or withdrawn from warehouse, for consumption on or after the date of publication, consistent with section 751(a)(1) of the Act: (1) the cash-deposit rate for Asahi will be 0.00 percent; (2) for previously reviewed or investigated companies not listed above, the cash-deposit rate will continue to be the company-specific rate published for the most recent period; (3) if the exporter is not a firm covered in this review, a prior review, or the original less-than-fair-value (LTFV) investigation but the manufacturer is, the cash-deposit rate will be the rate established for the most recent period for the manufacturer of the merchandise; (4) if neither the exporter nor the producer is a firm covered in this review, a prior review, or the LTFV investigation, the cash-deposit rate shall be 91.74 percent, the all-others rate established in the LTFV investigation. See Notice of Final Determination of Sales at Less Than Fair Value: Granular Polytetrafluoroethylene Resin From Japan, 53 FR 25191 (July 5, 1988). These deposit requirements shall remain in effect until publication of the final results of the next administrative review.

This notice serves as a reminder to importers of their responsibility under 19 CFR 351.402(f) to file a certificate regarding the reimbursement of antidumping duties prior to liquidation of the relevant entries during the review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the return or destruction of APO materials or conversion to judicial protective order is hereby requested. Failure to comply with the regulations and the terms of an APO is a sanctionable violation.

We are issuing and publishing these results in accordance with sections 751(a)(1) and 777(i) of the Act.

Dated: October 23, 2006.
Stephen J. Claeys,
Acting Assistant Secretary for Import Administration.

Appendix

Comments and Responses

Level of Trade

[FR Doc. E6-18405 Filed 10-31-06; 8:45 am]

BILLING CODE 3510-DS-S